NEIGHBORHOOD REINVESTMENT CORPORATION

Sunshine Act Meetings; Audit Committee Meeting

TIME & DATE: 11 a.m., Thursday, November 12, 2020.

PLACE: Via Conference Call.

STATUS: Open (with the exception of Executive Session).

MATTERS TO BE CONSIDERED: The General Counsel of the Corporation has certified that in his opinion, one or more of the exemptions set forth in 5 U.S.C. 552 (b)(2) and (4) permit closure of the following portion(s) of this meeting:

• Executive Session

AGENDA:

I. Call to Order

II. Executive Session: Introduction to BDO External Auditors

III. Executive Session: BDO

IV. Executive Session: Chief Audit Executive

V. Internal Audit Report

VI. Action Item: Review of the Charters

VII. Action Item: Modification of FY2020 Internal Audit Work Plan

VIII. Action Item: Internal Audit Reports with Management's Response

IX. Internal Audit Status Reports

X. Adjournment

CONTACT PERSON FOR MORE INFORMATION: Lakeyia Thompson, Special Assistant, (202) 524-9940; Lthompson@nw.org.

Lakeyia Thompson,
Special Assistant.

[FR Doc. 2020-24648 Filed 11-3-20; 11:15 am]

BILLING CODE 7570-02-P